FEDERAL RETIREMENT THRIFT INVESTMENT BOARD

Sunshine Act; Notice of Board Member Meeting

Federal Retirement Thrift Investment Board, 77 K Street NE., 10th Floor Board Room, Washington, DC 20002.

Federal Register Citation of Previous Announcement: 82 FR 17991.

Previously Announced Time and Date of the Meeting: 8:30 a.m., April 24, 2017.

Changes in the Meeting: Time: 9 a.m.

Agenda

Federal Retirement Thrift Investment Board Member Meeting, April 24, 2017, 9:00 a.m. (In-Person).

Open Session

1. Approval of the Meeting Minutes for the March 27, 2017 Board Member Meeting

2. Monthly Reports

(a) Participant Activity Report

(b) Legislative Report

3. Quarterly Reports

(c) Investment Performance

(d) Audit Status

4. OCFO Annual Report and Budget Review

5. Internal Audit

6. Annual Financial Audit—CLA

7. DOL Presentation

8. Consolidated IT/Audit Activities

Closed Session

Information covered under 5 U.S.C. 552b(c)(9)(B).

Adjourn

CONTACT PERSON FOR MORE INFORMATION: Kimberly Weaver, Director, Office of External Affairs, (202) 942-1640.

Dated: April 19, 2017.
Megan Grumbine,
Secretary, Federal Retirement Thrift Investment Board.

[FR Doc. 2017-08261 Filed 4-19-17; 4:15 pm]

BILLING CODE 6760-01-P